DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) modified
City of Lubbock, Texas | Docket No.: FEMA-B-1221
Texas | City of Lubbock | Playa System E1 | At the intersection of Avenue T and 40th Street | +3206
|  |  | At the intersection of Slide Road and 58th Street | +3256
* National Geodetic Vertical Datum.
+ North American Vertical Datum.
# Depth in feet above ground.
‸ Mean Sea Level, rounded to the nearest 0.1 meter.
ADDRESSES
City of Lubbock
Maps are available for inspection at City Hall, 1625 13th Street, Lubbock, TX 79401.

Flooding source(s) | Location of referenced elevation | * Elevation in feet (NGVD) + Elevation in feet (NAVD) # Depth in feet above ground ‸ Elevation in meters (MSL) modified | Communities affected
Magoffin County, Kentucky, and Incorporated Areas
Docket No.: FEMA-B-1229
Beetree Branch (backwater effects from Licking River) | At the Licking River confluence | +956 | Unincorporated Areas of Magoffin County.
| Approximately 885 feet upstream of the Licking River confluence | +956
Big Half Mountain Creek (backwater effects from Licking River) | At the Licking River confluence | +901 | Unincorporated Areas of Magoffin County.
| Approximately 355 feet upstream of Clyde Holliday Cemetery Road | +901
Brushy Fork (backwater effects from Licking River) | At the Licking River confluence | +976 | Unincorporated Areas of Magoffin County.
| Approximately 865 feet upstream of the Licking River confluence | +976
Buck Branch (backwater effects from Licking River) | At the Licking River confluence | +932 | Unincorporated Areas of Magoffin County.
| Approximately 1,615 feet upstream of the Licking River confluence | +932
Elk Creek (backwater effects from Licking River) | At the Licking River confluence | +848 | Unincorporated Areas of Magoffin County.
| Approximately 175 feet upstream of Combs Branch Road | +848
Gardner Branch (backwater effects from Licking River) | At the Licking River confluence | +849 | Unincorporated Areas of Magoffin County.
| Approximately 615 feet upstream of Connelly Farm Road | +849
Grape Creek (backwater effects from Licking River) | At the Licking River confluence | +828 | Unincorporated Areas of Magoffin County.
| Approximately 0.7 mile upstream of the Licking River confluence | +828
Gun Creek (backwater effects from Licking River) | At the Licking River confluence | +890 | Unincorporated Areas of Magoffin County.
| Approximately 700 feet upstream of State Highway 7 | +890
Johnson Creek (backwater effects from Licking River) | At the Licking River confluence | +829 | Unincorporated Areas of Magoffin County.
| Approximately 870 feet upstream of State Highway 134 | +829
Left Fork Licking River (backwater effects from Licking River) | Approximately 0.8 mile upstream of Bert T. Combs Mountain Parkway | +846 | Unincorporated Areas of Magoffin County.
| Approximately 1,505 feet upstream of State Highway 3337 | +846
Lick Creek (backwater effects from Licking River) | At the Licking River confluence | +814 | Unincorporated Areas of Magoffin County.
| Approximately 120 feet downstream of Hensley Road | +814
Licking River | At the Morgan County boundary | +806 | City of Salyersville, Unincorporated Areas of Magoffin County.
| Approximately 800 feet upstream of Quicksand Fork Road | +1014
Licking River Arc 1 | At the Licking River confluence | +849 | Unincorporated Areas of Magoffin County.
| At the Licking River divergence | +849
Licking River Arc 2 | At the Licking River confluence | +852 | City of Salyersville, Unincorporated Areas of Magoffin County.
| Approximately 1,935 feet downstream of Main Street | +852
Middle Fork Licking River (backwater effects from Licking River) | At the Licking River confluence | +846 | Unincorporated Areas of Magoffin County.
| Approximately 0.8 mile upstream of Bert T. Combs Mountain Parkway | +846
Oakley Creek (backwater effects from Licking River) | At the Licking River confluence | +883 | Unincorporated Areas of Magoffin County.
| Approximately 1,140 feet upstream of State Highway 1635 | +883
Pricy Creek (backwater effects from Licking River) | At the Licking River confluence | +808 | Unincorporated Areas of Magoffin County.
| Approximately 670 feet upstream of State Highway 3333 | +808
Quicksand Fork (backwater effects from Licking River) | At the Licking River confluence | +1012 | Unincorporated Areas of Magoffin County.
| Approximately 360 feet upstream of Quicksand Fork Road | +1012
Right Fork Buck Branch (backwater effects from Licking River) | At the Buck Branch confluence | +932 | Unincorporated Areas of Magoffin County.
| Approximately 95 feet downstream of Buck Creek Road | +932
Right Fork Licking River (backwater effects from Licking River) | Approximately 0.8 mile upstream of Bert T. Combs Mountain Parkway | +846 | Unincorporated Areas of Magoffin County.
| Approximately 1,670 feet upstream of Ghost Branch Road | +846
Salt Lick Branch (backwater effects from Licking River) | At the Licking River confluence | +924 | Unincorporated Areas of Magoffin County.
| Approximately 0.6 mile upstream of State Highway 7 | +924
Trace Fork (backwater effects from Licking River) | At the Licking River confluence | +943 | Unincorporated Areas of Magoffin County.
| Approximately 1,410 feet upstream of the Licking River confluence | +943
* National Geodetic Vertical Datum.
+ North American Vertical Datum.
# Depth in feet above ground.
‸ Mean Sea Level, rounded to the nearest 0.1 meter.
ADDRESSES
City of Salyersville
Maps are available for inspection at City Hall, 315 East Maple Street, Salyersville, KY 41465.
Unincorporated Areas of Magoffin County
Maps are available for inspection at the Magoffin County Courthouse, Judge's Office, 457 Parkway Drive, Salyersville, KY 41465.
Cass County, Missouri, and Incorporated Areas
Docket No. FEMA B-1193
Lake Winnebago | Entire shoreline | +923 | City of Lake Winnebago.
Unnamed Tributary to Lumpkins Fork (backwater effects from Lumpkins Fork) | From approximately 275 feet upstream of the Lumpkins Fork confluence to approximately 850 feet upstream of the Lumpkins Fork confluence | +962 | City of Raymore.
Unnamed Tributary to Mill Creek (backwater effects from Mill Creek) | From approximately 50 feet upstream of the Mill Creek confluence to approximately 850 feet upstream of the Mill Creek confluence | +893 | Village of Loch Lloyd.
Unnamed Tributary to Poney Creek (backwater effects from Poney Creek) | From approximately 1,300 feet upstream of the Poney Creek confluence to approximately 1.0 mile upstream of the Poney Creek confluence | +845 | Unincorporated Areas of Cass County.
Unnamed Tributary to South Grand River (backwater effects from South Grand River) | From approximately 1,850 feet upstream of South Lake Annette Road to approximately 0.49 mile upstream of South Lake Annette Road | +849 | Unincorporated Areas of Cass County.
* National Geodetic Vertical Datum.
+ North American Vertical Datum.
# Depth in feet above ground.
‸ Mean Sea Level, rounded to the nearest 0.1 meter.
ADDRESSES
City of Lake Winnebago
Maps are available for inspection at City Hall, 10 East Winnebago Drive, Lake Winnebago, MO 64034.
City of Raymore
Maps are available for inspection at City Hall, 100 Municipal Circle, Raymore, MO 64083.
Unincorporated Areas of Cass County
Maps are available for inspection at the Cass County Courthouse, 102 East Wall Street, Harrisonville, MO 64701.
Village of Loch Lloyd
Maps are available for inspection at Cass County Codes and Zoning Office, 30508 Southwest Outer Road, Harrisonville, MO 64701.
Kiowa County, Oklahoma, and Incorporated Areas
Docket Nos.: FEMA-B-1158 and FEMA-B-1229
Lake Altus | Entire shoreline within community | +1555 | Unincorporated Areas of Kiowa County.
Tributary 1 | Approximately 1,200 feet downstream of A Street | +1347 | City of Snyder, Unincorporated Areas of Kiowa County.
| Approximately 70 feet downstream of the railroad | +1356
Tributary 2 | Approximately 950 feet downstream of B Street | +1353 | City of Snyder, Unincorporated Areas of Kiowa County.
| Approximately 600 feet downstream of the railroad | +1360
* National Geodetic Vertical Datum.
+ North American Vertical Datum.
# Depth in feet above ground.
‸ Mean Sea Level, rounded to the nearest 0.1 meter.
ADDRESSES
City of Snyder
Maps are available for inspection at City Hall, 721 E Street, Snyder, OK 73566.
Unincorporated Areas of Kiowa County
Maps are available for inspection at the Kiowa County Courthouse, 316 South Main Street, Hobart, OK 73651.
Wayne County, West Virginia, and Incorporated Areas
Docket No.: FEMA-B-1229
Big Sandy River | At the Ohio River confluence | +550 | Town of Fort Gay, Unincorporated Areas of Wayne County.
| At the Tug Fork confluence | +575
Mill Creek (backwater effects from Tug Fork) | From the Tug Fork confluence to approximately 1.1 miles upstream of the Tug Fork confluence | +575 | Town of Fort Gay.
Tug Fork | At the Big Sandy River confluence | +575 | Town of Fort Gay.
| Approximately 0.5 mile upstream of the Big Sandy River confluence | +575
* National Geodetic Vertical Datum.
+ North American Vertical Datum.
# Depth in feet above ground.
‸ Mean Sea Level, rounded to the nearest 0.1 meter.
ADDRESSES
Town of Fort Gay
Maps are available for inspection at the Town Hall, 3407 Wayne Street, Fort Gay, WV 25514.
Unincorporated Areas of Wayne County
Maps are available for inspection at the Wayne County Courthouse, 700 Hendricks Street, Wayne, WV 25570.

(Catalog of Federal Domestic Assistance No. 97.022, “Flood Insurance.”)

James A. Walke,
Acting Deputy Associate Administrator for Mitigation, Department of Homeland Security, Federal Emergency Management Agency.

[FR Doc. 2012-31289 Filed 12-27-12; 8:45 am]

BILLING CODE 9110-12-P